DEPARTMENT OF COMMERCE

National Oceanic and Atmospheric Administration

50 CFR Part 660

[Docket No. 180625576-8999-02]

RIN 0648-BJ81

Magnuson-Stevens Act Provisions; Fisheries Off West Coast States; Pacific Coast Groundfish Fishery; 2019-2020 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial groundfish fisheries. This action is intended to allow commercial fishing vessels to access more abundant groundfish stocks, while protecting overfished and depleted stocks.

DATES: Effective June 9, 2020.

FOR FURTHER INFORMATION CONTACT: Gretchen Hanshew, phone: 206-526-6147 or email: gretchen.hanshew@noaa.gov.

Electronic Access

This rule is accessible via the internet at the Office of the Federal Register website at https://www.federalregister.gov. Background information and documents are available at the Pacific Fishery Management Council's website at http://www.pcouncil.org/.

SUPPLEMENTARY INFORMATION:

Background

The Pacific Coast Groundfish Fishery Management Plan (PCGFMP) and its implementing regulations at 50 CFR part 660, subparts C through G, regulate fishing for over 90 species of groundfish off the coasts of Washington, Oregon, and California. The Pacific Fishery Management Council (Council) develops groundfish harvest specifications and management measures for two-year periods (i.e., a biennium). NMFS published the final rule to implement harvest specifications and management measures for the 2019-2020 biennium for most species managed under the PCGFMP on December 12, 2018 (83 FR 63970). In general, the management measures set at the start of the biennial harvest specifications cycle help the various sectors of the fishery attain, but not exceed, the catch limits for each stock. The Council, in coordination with Pacific Coast Treaty Indian Tribes and the States of Washington, Oregon, and California, recommends adjustments to the management measures during the fishing year to achieve this goal. At its April 4-10, 2020 meeting, the Council recommended increased trip limits for limited entry fixed gear (LEFG) and open access (OA) fisheries for sablefish, lingcod, canary rockfish, yellowtail rockfish, nearshore rockfish, shelf rockfish, slope rockfish and flatfish.

Pacific Coast groundfish fisheries are managed using harvest specifications or limits (e.g., overfishing limits [OFL], acceptable biological catch [ABC], annual catch limits [ACL] and harvest guidelines [HG]) recommended biennially by the Council and based on the best scientific information available at that time (50 CFR 660.60(b)). During development of the harvest specifications, the Council also recommends mitigation measures (e.g., trip limits, area closures, and bag limits) that are meant to mitigate catch so as not to exceed the harvest specifications. The harvest specifications and mitigation measures developed for the 2019-2020 biennium used data through the 2017 fishing year. Each of the adjustments to mitigation measures discussed below are based on updated fisheries information that was unavailable when the analysis for the current harvest specifications was completed. As new fisheries data becomes available, adjustments to mitigation measures are projected to help harvesters achieve but not exceed the harvest limits. Measures implemented in this rule took into account fisheries data through the end of March, 2020.

The increased trip limits were requested by industry stakeholders and the Groundfish Advisory Subpanel (GAP) to relieve some restrictions for non-trawl commercial fisheries off the coasts of Washington, Oregon, and California, and to allow increased potential for utilization of available stocks where markets exist. The trip limit increases in this action are intended to expand access to certain fish stocks for the commercial non-trawl fleets during overall market declines and state restrictions that may limit fishing effort, and will help meet the current and rising demand of smaller domestic markets that are providing fresh fish to coastal communities and grocers. These increases to trip limits are intended to provide some relief to coastal fishing communities that have sustained severe disruptions in markets and decreases in tourist income due to state fishery closures.

Limited Entry Fixed Gear and Open Access Trip Limits

Due to changes in markets and state restrictions, projections of catch through the end of the year were expected to remain low, given lower than expected effort and landings. For example, sablefish landings north of 36° N lat. were expected to reach only 40 to 70 percent of its non-trawl allocation under the existing trip limits through the end of the year, down from a projected 68 to 93 percent attainment through the end of the year, when 2020 trip limits were previously set at the end of 2019 (85 FR 250, January 3, 2020).

The Council recommended, and NMFS is implementing, trips limits that provide economic benefits for fishery participants coastwide, but, primarily provide increased opportunity in California and Oregon, because Washington does not have a nearshore fishery. Trip limit changes north of 40°10′ N lat. for LEFG and OA Pacific groundfish fisheries for periods 3-6 (i.e., May-December) are described in Tables 1 and 3. Trip limit changes south of 40°10′ N lat. for LEFG and OA Pacific groundfish fisheries for periods 3-6 (i.e., May-December) are described in Tables 2 and 4.

Table 1—Trip Limit Increases for LEFG Pacific Groundfish Fisheries North of 40°10′ N Lat. by Species/Stock Complex
Species/stock complex | Area | Trip limits
Minor Slope Rockfish & Darkblotched rockfish | North of 40°10′ N lat | Old: “6,000 lb (2,722 kg)/2 month”. New: “8,000 lb (3,629 kg)/2 months”.
Sablefish | North of 40°10′ N lat | Old: “1,300 lb (590 kg) week, not to exceed 3,900 lb (1,769 kg)/2 months”. New: “1,500 lb (680 kg) week, not to exceed 4,500 lb (2,041 kg)/2 months”.
Dover sole, arrowtooth flounder, petrale sole, English sole, starry flounder, Other Flatfish | North of 40°10′ N lat | Old: “5,000 lb (2,268 kg)/month”. New: “10,000 lb (4,536 kg)/month”.
Minor Shelf Rockfish, Shortbelly, & Widow Rockfish | North of 40°10′ N lat | Old: “200 lb (91 kg)/month”. New: “800 lb (363 kg)/month”.
Yellowtail rockfish | North of 40°10′ N lat | Old: “1,000 lb (454 kg)/month”. New: “3,000 lb (1,361 kg)/month”.
Canary rockfish | North of 40°10′ N lat | Old: “300 lb (136 kg)/2 months”. New: “3,000 lb (1,361 kg)/2 months”.
Minor Nearshore Rockfish, Washington Black rockfish & Oregon Black/blue/deacon rockfish | 42° N lat. to 40°10′ N lat | Old: “7,000 lb (3,175 kg)/2 months, no more than 1,500 lb (680 kg) of which may be species other than black rockfish”. New: “7,000 lb (3,175 kg)/2 months, no more than 2,000 lb (907 kg) of which may be species other than black rockfish”.
Lingcod | North of 42° N lat | Old: “2,600 lb (1,179 kg)/2 months”. New: “4,000 lb (1,814 kg)/2 months”.
| 42° N lat. to 40°10′ N lat | Old: “1,400 lb (635 kg)/2 months”. New: “2,000 lb (907 kg)/2 months”.

Table 2—Trip Limit Increases for LEFG Pacific Groundfish Fisheries South of 40°10′N Lat. by Species/Stock Complex and Area
Species/stock complex | Area | Trip limits
Minor Slope Rockfish & Darkblotched rockfish | South of 40°10′ N lat | Old:“40,000 lb (18,144 kg)/2 months, of which no more than 4,000 lb (1,814 kg) may be blackgill rockfish”. New: “40,000 lb (18,144 kg)/2 months, of which no more than 5,500 lb (2,495 kg) may be blackgill rockfish”.
Sablefish | 40°10′ N lat. to 36° N lat | Old: “1,300 lb (590 kg) week, not to exceed 3,900 lb (1,769 kg)/2 months”. New: “1,500 lb (680 kg) week, not to exceed 4,500 lb (2,041 kg)/2 months”.
Dover sole, arrowtooth flounder, petrale sole, English sole, starry flounder, Other Flatfish | South of 40°10′ N lat | Old: “5,000 lb (2,268 kg)/month”. New: “10,000 lb (4,536 kg)/month”.
Minor Shelf Rockfish, Shortbelly rockfish, Widow Rockfish (including Chilipepper between 40°10 N lat.-34°27 N lat | 40°10′ N lat. to 34°27′ N lat | Old: “Minor shelf rockfish, shortbelly, widow rockfish, & chilipepper: 2,500 lb (1,134 kg)/2 months, of which no more than 500 lb (227 kg) may be any species other than chilipepper.”. New: “8,000 lbs (3,629 kg)/2 months, of which no more than 500 lb (227 kg) may be vermilion”.
| South of 34°27′ N lat | Old: “4,000 lb (1,814 kg)/2 months”. New: “5,000 lbs (2,268 kg)/2 months, of which no more than 4,000 lb (1,814 kg) may be vermilion rockfish”.
Chilipepper | South of 34°27′ N lat | Old: “2,000 lb (907 kg)/2 months, this opportunity only available seaward of the non-trawl RCA”. New: “4,000 lb (1,814 kg)/2 months, this opportunity only available seaward of the non-trawl RCA”.
Canary rockfish | 40°10′ N lat. to 34°27′ N lat | Old: “300 lb (136 kg)/2 months”. New: “3,500 lb (1,588 kg)/2 months”.
| South of 34°27′ N lat | Old: “300 lb (136 kg)/2 months”. New: “3,500 lb (1,588 kg)/2 months”.
Minor Nearshore Rockfish, California Black rockfish, & Oregon Black/Blue/Deacon rockfish | South of 40°10′ N lat.; Shallow nearshore | Old: “1,200 lb (544 kg)/2 months”. New: “2,000 lb (907 kg)/2 months”.
| South of 40°10′ N lat.; Deeper nearshore | Old: “1,200 lb (544 kg)/2 months”. New: “2,000 lb (907 kg)/2 months”.
Lingcod | South of 40°10′ N lat | Old: “1,200 lb (544 kg)/2 months”. New: “1,500 lb (680 kg)/2 months”.

Table 3—Trip Limit Increases for OA Pacific Groundfish Fisheries North of 40°10′ N Lat. by Species/Stock Complex and Area
Species/stock complex | Area | Trip limits
Minor Slope Rockfish & Darkblotched rockfish | North 40°10′ N lat | Old: “500 lb (227 kg)/month”. New: “1,000 lb (454 kg)/month”.
Sablefish | North of 40°10′ N lat | Old: “300 lb (136 kg) day; or one landing per week up to 1,200 lb (544 kg), not to exceed 2,400 lb (1089 kg)/2 months”. New: “300 lb day (136 kg); or one landing per week up to 1,500 lb (680 kg), not to exceed 3,000 lb (1,361 kg)/2 months”.
Dover sole, arrowtooth flounder, petrale sole, English sole, starry flounder, Other Flatfish | North of 40°10′ N lat | Old: “3,000 lb (1,361 kg)/month, no more than 300 lb (136 kg) of which may be species other than Pacific sanddabs”. New: “5,000 lb (2,268 kg)/month”.
Minor Shelf Rockfish, Shortbelly, & Widow Rockfish | North of 40°10′ N lat | Old: “200 lb (91 kg)/month”. New: “800 lb (363 kg)/month”,
Yellowtail rockfish | North of 40°10′ N lat | Old: “500 lb (227 kg)/month”. New: “1,500 lb (680 kg)/month”.
Canary rockfish | North of 40°10′ N lat | Old: “300 lb (136 kg)/2 months”. New: “1,000 lb (454 kg)/2 months”.
Minor Nearshore Rockfish, Washington Black rockfish & Oregon Black/blue/deacon rockfish | 42° N lat. to 40°10′ N lat | Old: “7,000 lb (3,175 kg)/2 months, no more than 1,500 lb (680 kg) of which may be species other than black rockfish”. New: “7,000 lb (3,175 kg)/2 months, no more than 2,000 lb (907 kg) of which may be species other than black rockfish”.
Lingcod | North of 42° N lat | Old: “1,200 lb (544 kg)/month”. New: “2,000 lb (907 kg)/month”.
| 42° N lat. to 40°10′ N lat | Old: “600 lb (272 kg)/month”. New: “1,000 lb (454 kg)/month”.

Table 4—Trip Limit Increases for OA Pacific Groundfish Fisheries South of 40°10′ N Lat. by Species/Stock Complex and Area
Species/stock complex | Area | Trip limits
Minor Slope Rockfish & Darkblotched rockfish | South of 40°10′ N lat | Old: “10,000 lb (4,536 kg)/2 months, of which no more than 800 lb (363 kg) may be blackgill rockfish”. New: “10,000 lb (4,536 kg)/2 months, of which no more than 1,500 lb (680 kg) may be blackgill rockfish”.
Sablefish | 40°10′ N lat. to 36° N lat | Old: “300 lb (136 kg) day; or one landing per week up to 1,200 lb (544 kg), not to exceed 2,400 lb (1,089 kg)/2 months”. New: “300 lb (136 kg) day; or one landing per week up to 1,500 lb (680 kg), not to exceed 3,000 lb (1,361 kg)/2 months.
Dover sole, arrowtooth flounder, petrale sole, English sole, starry flounder, Other Flatfish | South of 40°10′ N lat | Old: “3,000 lb (1,361 kg)/month, no more than 300 lb (136 kg) of which may be species other than Pacific sanddabs”. New: “5,000 lb (2,268 kg)/month”.
Minor Shelf Rockfish, Shortbelly, Widow rockfish and Chilipepper | 40°10′ N lat. to 34°27′ N lat | Old: “400 lb (181 kg)/2 months”. New: “4,000 lb (1,814 kg)/2 months, of which no more than 400 lb (181 kg) may be vermilion”.
| South of 34°27′ N lat | Old: “1,500 lb (680 kg)/2 months”. New: “3,000 lb (1,361 kg)/2 months, of which no more than 1,500 lb (680 kg) may be vermilion rockfish”.
Canary rockfish | South of 40°10′ N lat | Old: “300 lb (136 kg)/2 months”. New: “1,500 lb (680 kg)/2 months”.
Minor Nearshore Rockfish, California Black rockfish, & Oregon Black/Blue/Deacon rockfish | South of 40°10′ N lat.; Shallow nearshore | Old: “1,200 lb (544 kg)/2 months”. New: “2,000 lb (907 kg)/2 months”.
| South of 40°10′ N lat.; Deeper nearshore | Old: “1,200 lb (544 kg)/2 months”. New: “2,000 lb (907 kg)/2 months”.
Lingcod | South of 40°10′ N lat | Old: “500 lb (227 kg)/month”. New: “700 lb (318 kg)/month”.

The changes are expected to increase landings for most species. For example, for lingcod, the current coastwide estimate for LEFG and OA mortality is 212.5 mt. With these trip limit increases, total coastwide LEFG and OA landings of lingcod could increase to between 258 and 289 mt, and ex-vessel revenue could increase by a high of $537,000. The actual increase in landings will vary depending upon new entrants to the OA fishery, full attainment of trip limits, and access to healthy, stable markets. Harvest of these species' non-trawl allocations are projected to increase between 0.07 percent and 66.7 percent from expected 2020 catch under current regulations and loss of markets, depending on the stock. Harvest is not expected to approach or exceed 2020 catch limits through the end of the year (Table 5). Therefore, the changes in trip limits do not change projected impacts compared to the impacts evaluated in the 2019-2020 harvest specifications because the harvest specifications assume that the entire ACL is harvested.

Table 5—Projected Catches Through the End of 2020 Compared to Stock-Specific 2020 ACLs, Where Applicable
Stock | 2020 ACL (mt) | Projected impacts before this inseason action (percent of ACL) ¹ | Projected impacts with this inseason action (percent of ACL) ²
Canary rockfish | 1,368 | 91.7 | 96
Lingcod North of 40°10′ N lat | 4,541 | 60.4 | 61.8
Lingcod South of 40°10′ N lat | 869 | 83.3 | 85.4
Darkblotched rockfish | 815 | 95.9 | 96.0
Minor Slope Rockfish North of 40°10′ N lat | 1,732 | 84.2 | 84.2
Nearshore Rockfish South of 40°10′ N lat | 1,163 | 61.1 | 70.0
Sablefish North of 36° N lat | 5,723 | 77-86 | 85-94
Yellowtail rockfish North of 40°10′ N lat | 5,986 | 92.4 | 92.4
Yelloweye Rockfish ³ | 49 | 53 | 56
Cowcod ³ | 10 | 70 | 90
¹ Assumes full harvest of allocations in individual fishing quota (IFQ) fisheries, exempted fisheries, and tribal fisheries. Assumes no changes to trip limits or RCA boundaries from what was scheduled to be in place for 2020, as of December 2019.
² Assumes full harvest of allocations in IFQ fisheries, exempted fisheries, and tribal fisheries. Assumes trip limit and RCA boundary adjustments recommended by the Council are implemented.
³ These values were considered a range of projections due to uncertainty. This table presents the highest projection from the range of impacts considered by the Council.

The projected increase in landings is expected to occur with only minor increases in bycatch of non-target species, including yelloweye rockfish and cowcod. Modifications to the trip limits are projected to increase mortality of yelloweye rockfish, which is the last remaining rebuilding groundfish species, between 0.6-1.8 mt. Projected mortality of yelloweye rockfish due to the increased trip limits remains within the ACL, with less than 60 percent of the ACL projected to be harvested. While there is uncertainty in projections, projected impacts to the yelloweye rockfish mortality in the LEFG and OA fisheries could double from what is projected to occur and total impacts, when combined with all other sources, would still be below the ACL. Therefore, the changes in trip limits do not change projected impacts compared to the impacts evaluated in the 2019-2020 harvest specifications because the harvest specifications assume that the entire ACL is harvested.

Classification

This final rule makes routine inseason adjustments to groundfish fishery management measures, based on the best scientific information available, consistent with the PCGFMP and its implementing regulations.

This action is taken under the authority of 50 CFR 660.60(c) and is exempt from review under Executive Order 12866.

The aggregate data upon which these actions are based are available for public inspection by contacting Gretchen Hanshew in NMFS West Coast Region (see FOR FURTHER INFORMATION CONTACT, above), or view at the NMFS West Coast Groundfish website: http://www.westcoast.fisheries.noaa.gov/fisheries/groundfish/index.html.

Pursuant to 5 U.S.C. 553(b), NMFS finds good cause to waive prior public notice and an opportunity for public comment on this action, as notice and comment would be impracticable and contrary to the public interest. The adjustments to management measures in this document ease restrictive trip limits on groundfish fisheries in Washington, Oregon and California. No aspect of this action is controversial, and changes to trip limits were anticipated in the final rule for the 2019-2020 harvest specifications and management measures which published on December 12, 2018 (83 FR 63970).

At its April 2020 meeting, the Council recommended increases to the commercial trip limits be implemented as soon as possible so that the few harvesters that have viable markets can harvest available quotas that would otherwise be unharvested during a lull in fishing effort. Each of the adjustments to commercial management measures in this rule will create more harvest opportunity and allow fishermen to better attain species that are currently under attained without causing any additional impacts to the fishery that were not previously considered. Each of these recommended adjustments also rely on new catch data that were not available and thus not considered during the 2019-2020 biennial harvest specifications process. New catch information through March 2020 shows that harvest of these target species (sablefish, lingcod, canary rockfish, yellowtail rockfish, nearshore rockfish, shelf rockfish, slope rockfish and flatfish) has been much lower than anticipated due to diminished effort due to current market conditions expressed by industry and the Council. Without the actions taken in this final rule, fishermen that have access to markets might find it challenging to meet demand, while overall harvest will be much diminished from that projected during the 2019-2020 biennial harvest specifications process. Markets will likely take time to recover from current conditions. As they do, further action can be considered based on updated fishery data to keep harvest of these groundfish species below their respective management points (i.e., HG, ACL, and non-trawl allocation), while providing fishing opportunity to meet market demands, through the end of the year.

These coastwide trip limit adjustments are anticipated to help offset economic losses to coastal communities from state fishery closures and stagnant markets. Coastal communities, across all three states, would normally be expecting approximately $68.3 million in economic contributions from recreational fishing between March-May 2020. Recreational fisheries closures or delayed seasons in all three states will severely limit the expected economic contributions that those fisheries provide to coastal communities. In commercial fisheries, effort is down due to market issues, and the changes in this final rule could provide up to an additional $2 million in ex-vessel revenue to harvesters, not including benefits to communities and associated businesses, from what was estimated without this action. Delaying implementation to allow for public comment would likely reduce the economic benefits to the commercial fishing industry and the businesses that rely on that industry because it is unlikely the new regulations would be published and could be implemented before the end of the calendar year. Therefore, providing a comment period for this action could significantly limit the economic benefits to the fishery, and would hamper the achievement of optimum yield from the affected fisheries.

Therefore, the NMFS finds reason to waive the 30-day delay in effectiveness pursuant to 5 U.S.C. 553(d)(1) so that this final rule may become effective upon publication in the Federal Register. The adjustments to management measures in this document affect commercial fisheries by increasing opportunity and relieving participants of the more restrictive trip limits. These adjustments were requested by the Council's advisory bodies, as well as members of industry during the Council's April 2020 meetings, and recommended unanimously by the Council. No aspect of this action is controversial, and changes of this nature were anticipated in the biennial harvest specifications and management measures established through a notice and comment rulemaking for 2019-2020 (83 FR 63970; December 12, 2018).

List of Subjects in 50 CFR Part 660

Fisheries, Fishing, and Indian fisheries.

Dated: June 4, 2020.
Hélène M.N. Scalliet,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Table 2 (North) to part 660, subpart E, is revised to read as follows:

Table 2 (North) to Part 660, Subpart 3—Non-Trawl Rockfish Conservation Areas and Trip Limits for Limited Entry Fixed Fear North of 40°10′ N Lat.

BILLING CODE 3510-22-P

3. Table 2 (South) to part 660, subpart E, is revised to read as follows:

Table 2 (South) to Part 660, Subpart E—Non-Trawl Rockfish Conservation Areas and Trip Limits for Limited Entry Fixed Gear South of 40°10′ N Lat.

4. Table 3 (North) to part 660, subpart F, is revised to read as follows:

Table 3 (North) to Part 660, Subpart F—Non-Trawl Rockfish Conservation Areas and Trip Limits for Open Access Gears North of 40°10′ N Lat.

5. Table 3 (South) to part 660, subpart F, is revised to read as follows:

Table 3 (South) to Part 660, Subpart F—Non-Trawl Rockfish Conservation Areas and Trip Limits for Open Access Gears South of 40°10′ N Lat.

[FR Doc. 2020-12503 Filed 6-8-20; 8:45 am]

BILLING CODE 3510-22-C